DEPARTMENT OF LABOR

Employment and Training Administration

Agency Information Collection Activities; Comment Request; CW-1 Application for Temporary Employment Certification

ACTION: Notice; request for comments.

SUMMARY: The Employment and Training Administration (ETA) is soliciting comments concerning a proposed revision for the authority to conduct the information collection request (ICR) for the CW-1 Application for Temporary Employment Certification; and related information collection and retention requirements (OMB Control Number 1205-0534), which covers Form ETA-9141C, Application for Prevailing Wage Determination; Form ETA-9141C, General Instructions; Form ETA-9142C, CW-1 Application for Temporary Employment Certification; Form ETA-9142C, Appendix A; Form ETA-9142C, Appendix B; Form ETA-9142C, Appendix C; Form ETA-9142C, Final Determination; and Form ETA-9142C, General Instructions. This action seeks to revise the information collection. This comment request is part of continuing Departmental efforts to reduce paperwork and respondent burden in accordance with the Paperwork Reduction Act of 1995 (PRA).

DATES: Consideration will be given to all written comments received by April 6, 2026.

ADDRESSES: A copy of this ICR with applicable supporting documentation, including a description of the likely respondents, proposed frequency of response, and estimated total burden, may be obtained for free by contacting Brian Pasternak, Administrator, Office of Foreign Labor Certification, by email at ETA.OFLC.Forms@dol.gov.

Instructions: Submit written comments about, or requests for a copy of, this ICR by email at ETA.OFLC.Forms@dol.gov. To ensure proper consideration, include the OMB control number 1205-0534.

FOR FURTHER INFORMATION CONTACT: Brian Pasternak, Administrator, Office of Foreign Labor Certification, by email at ETA.OFLC.Forms@dol.gov.

SUPPLEMENTARY INFORMATION: DOL collects information through Form ETA-9142C, and appendices, and Form ETA-9141C, to carry out the responsibilities created for DOL under the Northern Mariana Islands U.S. Workforce Act of 2018. The Workforce Act provides that a petition to employ a nonimmigrant worker under the CW-1 visa classification may not be approved by the U.S. Department of Homeland Security unless the employer has received a temporary labor certification from DOL confirming the following: (1) There are not sufficient U.S. workers in the Commonwealth of the Northern Mariana Islands (CNMI) who are able, willing, qualified, and available at the time and place needed to perform the services or labor involved in the petition; and (2) the employment of a nonimmigrant worker who is the subject of a petition will not adversely affect the wages and working conditions of similarly employed U.S. workers.

This information collection is subject to the PRA. A federal agency generally cannot conduct or sponsor a collection of information, and the public is generally not required to respond to an information collection, unless it is approved by the OMB under the PRA and displays a currently valid OMB control number. In addition, notwithstanding any other provisions of law, no person shall generally be subject to penalty for failing to comply with a collection of information that does not display a valid Control Number. See5 CFR 1320.5(a) and 1320.6. The current ICR expires on April 30, 2026. DOL seeks to extend the validity of Form ETA-9141C, Application for Prevailing Wage Determination; Form ETA-9141C, General Instructions; Form ETA-9142C, CW-1 Application for Temporary Employment Certification; Form ETA-9142C, Appendix A; Form ETA-9142C, Appendix B; Form ETA-9142C, Appendix C; Form ETA-9142C Final Determination; and to revise the Form ETA-9142C, General Instructions, to make non-substantive changes.

Interested parties are encouraged to provide comments regarding this ICR to the contact shown in the ADDRESSES section. Comments must be written to receive consideration, and they will be summarized and included in the request for OMB approval of the final ICR. To help ensure appropriate consideration, comments should mention OMB control number 1205-0534.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

Agency: DOL-ETA.

Type of Review: Revision.

Title of Collection: CW-1 Application for Temporary Employment Certification.

Forms: Form ETA-9141C, Application for Prevailing Wage Determination; Form ETA-9141C, General Instructions; Form ETA-9142C, CW-1 Application for Temporary Employment Certification; Form ETA-9142C, Appendix A; Form ETA-9142C, Appendix B; Form ETA-9142C, Appendix C; Form ETA-9142C, Final Determination; and Form ETA-9142C, General Instructions.

OMB Control Number: 1205-0534.

Affected Public: Private Sector (businesses or other for profits); Not-for-profit Institutions; Government, State, Local and Tribal Governments.

Total Estimated Number of Respondents: 2,314.

Total Estimated Number of Responses: 154,950.

Total Estimated Annual Time Burden: 74,910.80 hours.

Total Estimated Annual Other Costs Burden: $0.

Authority: 44 U.S.C. 3507(a)(1)(D).

Henry Maklakiewicz,
Assistant Secretary for Employment and Training, Labor.

[FR Doc. 2026-02152 Filed 2-2-26; 8:45 am]

BILLING CODE 4510-FP-P